ENVIRONMENTAL PROTECTION AGENCY

[FRL—7578-4]

Meeting of the Mobile Sources Technical Review Subcommittee

AGENCY: Environmental Protection Agency (EPA).

ACTION: Notice of meeting.

SUMMARY: Pursuant to the Federal Advisory Committee Act, Public Act, Public Law 92-463, notice is hereby given that the Mobile Sources Technical Review Subcommittee (MSTRS) will meet in December 2003. This is an open meeting. The meeting will focus on diesel and school bus retrofits and will include presentations from industry, states, and EPA representatives. The preliminary agenda for this meeting will be available on the Subcommittee's Web site. Draft minutes from the previous meetings are available on the Subcommittee's Web site now at: http://www.epa.gov/air/caaac/mobile_sources.html. MSTRS listserver subscribers will receive notification when the agenda is available on the Subcommittee Web site. To subscribe to the MSTRS listserver, go to https://lists.epa.gov/cgi-bin/lyris.pl?enter=mstrs. The site contains instructions and prompts for subscribing to the listserver service.

DATES: Wednesday, December 3, 2003 from 9 am. to 4 pm. Registration begins at 8:30 am.

ADDRESSES: The meeting will be held at Westin Detroit Metropolitan Airport, 2501 WorldGateway Place, Detroit, Michigan 48242; (734) 942-6500. (The airport is located at the Detroit Metro Airport.) Cut-off date to make reservations for discounted rooms associated with this meeting is November 10, 2003.

FOR FURTHER INFORMATION CONTACT: For technical information: Mr. Barry Garelick, Technical Staff Contact, Transportation and Regional Programs Division, MC: 6406J, U.S. EPA, 1200 Pennsylvania Ave., NW., Washington, DC 20460;, Ph: (202) 564-9028; FAX: (202) 565-2085, e-mail; garelick.barry@epa.gov.

For logistical and administrative information: Ms .Kim Derksen, FACA Management Officer, U.S. EPA, 2000 Traverwood Drive, Ann Arbor, Michigan, Ph: 734-214-4272; FAX 734-214-4906, e-mail: derksen.kimberly@epa.gov.

Background on the work of the Subcommittee is available at: http://transaq.ce.gatech.edu/epatac.

For more current information: http://epa.gov/air/caaac/mobile_sources.html.

Individuals or organizations wishing to provide comments to the Subcommittee should submit them to Mr. Garelick at the address above by November 15, 2003. The Mobile Sources Technical Review Subcommittee expects that public statements presented at its meetings will not be repetitive of previously submitted oral or written statements.

SUPPLEMENTARY INFORMATION: During this meeting, the Subcommittee may also hear progress reports from some of its workgroups as well as updates and announcements on activities of general interest to attendees.

Dated: October 17, 2003.
Margo Tsirigotis Oge,
Director, Office of Transportation and Air Quality.

[FR Doc. 03-26925 Filed 10-23-03; 8:45 am]

BILLING CODE 6560-50-P